DEPARTMENT OF STATE

[Public Notice 4738]

Shipping Coordinating Committee—Notice of Meeting

The Shipping Coordinating Committee's Subcommittee on IMO Technical Co-operation Committee (TC) will conduct an open meeting at 10 a.m. on June 9th, 2005, in Room 4420 of the United States Coast Guard Headquarters building, 2100 Second Street SW., Washington, DC 20593-0001. The primary purpose of the meeting is to prepare for the 55th session of the International Maritime Organization's (IMO) Technical Co-operation Committee (TC), to be held at IMO Headquarters in London, England from June 14th to 16th, and to prepare for the 94th session of the IMO Council (C), to be held at IMO Headquarters in London, England from June 20th to 24th.

The primary matters to be considered for the Technical Co-operation Committee include:

—Work of other bodies and organizations

—Integrated Technical Co-operation Programme (ITCP)

—Long-term financing for the ITCP by the Member States

—Global Programme on Maritime Security

—Partnerships for Progress Programme

—Institutional Development and Fellowships

—Programme on the Integration of Women in the Maritime Sector

—Access to IMO Instruments in Electric Format

—Future Work Programme of the Committee

—Other matters

—Election of the Chairman and the Vice-Chairman for 2006

The primary matters to be considered for Council include:

—Resource management

—Programme for change: ERP, HQ building Refurbishment

—Voluntary IMO Member State Audit Scheme

—Work programme and budget for the 24th financial period 2006-2007

—Technical Co-operation Fund-biennial allocation to support the ITCP Programme for 2006-2007

—Protection of vital shipping lanes

—Consideration of the reports of the Maritime Safety Committee, the Legal Committee, and the Technical Co-operation Committee

—International Technical Co-operation Special Purpose Funds: International Maritime Security Fund; International SAR Fund

—Consideration of the World Maritime University and the IMO International Maritime Law Institute; Reports of the Board of Governors and Budgets

—Assembly matters

—Review of the Organization's financial framework in accordance with Assembly resolution A.942(23)

—External relations

—Report of the status of the Convention and membership of the Organization

—Report on the status of conventions and other multilateral instruments in respect of which the Organization performs functions

Members of the public may attend this meeting up to the seating capacity of the room. Interested persons may seek information by writing to Ms. Eleanor Thompson, Commandant (G-CI), U.S. Coast Guard Headquarters, 2100 Second Street, SW., Room 2114, Washington, DC 20593-0001 or by calling (202) 267-2246.

Dated: May 4, 2005.
Clay Diamond,
Executive Secretary, Shipping Coordinating Committee, Department of State.

[FR Doc. 05-9599 Filed 5-12-05; 8:45 am]

BILLING CODE 4710-07-P